DEPARTMENT OF LABOR

Employment and Training Administration

[TA-W-58,893, TA-W-58,893X, and TA-W-58,893Y]

Agilent Technologies, Inc., Automated Test Group, Semiconductor Test Solutions, Including On-Site Leased Workers of Voit, Santa Rosa, CA; Including Employees of Agilent Technologies, Inc., Automated Test Group, Semiconductor Test Solutions, Santa Rosa, CA, Located in Saint Paul and Scandia, MN; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on March 29, 2006, applicable to workers of Agilent Technologies, Inc., Automated Test Group, Semiconductor Test Solutions, including on-site leased workers of Voit, Santa Rosa, California. The notice was published in the Federal Register on April 17, 2006 (71 FR 19753).

At the request of a company official, the Department reviewed the certification for workers of the subject firm.

New information shows that worker separations have occurred involving employees of the Santa Rosa, California facility of Agilent Technologies, Inc., Automated Test Group, Semiconductor Test Solutions located in Saint Paul, Minnesota and Scandia, Minnesota. Mr. John Breen and Mr. Robert Higgins provided sales support services for the production of Radio Frequency (RF) Content for the Agilent 93000 Tester at the Santa Rosa, California location of the subject firm.

Based on these findings, the Department is amending this certification to include employees of the Santa Rosa, California facility of the subject firm located in Saint Paul, Minnesota and Scandia, Minnesota.

The intent of the Department's certification is to include all workers of the Santa Rosa, California location of the subject firm who was adversely affected by increased company imports.

The amended notice applicable to TA-W-58,893 is hereby issued as follows:

All workers of Agilent Technologies, Inc., Automated Test Group, Semiconductor Test Solutions, including on-site leased workers of Voit, Santa Rosa, California (TA-W-58,893) including employees of Agilent Technologies, Inc., Automated Test Group, Semiconductor Test Solutions, Santa Rosa, California located in Saint Paul, Minnesota (TA-W-58,893X) and Scandia, Minnesota (TA-W-58,893Y), who became totally or partially separated from employment on or after February 22, 2005 through March 29, 2008, are eligible to apply for adjustment assistance under section 223 of the Trade Act of 1974 and are also eligible to apply for alternative trade adjustment assistance under section 246 of the Trade Act of 1974.

Signed at Washington, DC this 26th day of April 2006.
Elliott S. Kushner,
Certifying Officer, Division of Trade Adjustment Assistance.

[FR Doc. E6-7126 Filed 5-9-06; 8:45 am]

BILLING CODE 4510-30-P